OFFICE OF PERSONNEL MANAGEMENT

OMB Emergency Review and 60-Day Notice for Comment for Existing Information Collection Request: OPM Form 1203-FX, Occupational Questionnaire OMB No. 3206-0040

AGENCY: Office of Personnel Management (OPM).

ACTION: Notice.

SUMMARY: In accordance with the Paperwork Reduction Act of 1995 (Pub. L. 104-13, May 22, 1995), this notice announces the Office of Personnel Management (OPM) has submitted to the Office of Management and Budget (OMB) a request for emergency clearance and review for existing information collection request for the OPM Form 1203-FX, Occupational Questionnaire. Approval of the Occupational Questionnaire, OPM Form 1203-FX is necessary to collect information from applicants to determine their level of qualification when applying for Federal employment. This also serves as the 60-Day Notice for review for full clearance.

DATES: Comments on this proposal for emergency review must be received on or before January 30, 2017. We respectfully request OMB take action within five (5) calendar days from the close of this Federal Register Notice on the request for emergency review. Comments are encouraged and will be accepted until December 31, 2016.

ADDRESSES: Send or deliver comments to: Program Management Office (ICR), Automated System Management Group, U.S. Office of Personnel Management, 1900 E Street NW., Room 2445A, Washington, DC 20415.

For Information Regarding Administrative Coordination Contact: Charles Cutshall, Office of Management and Budget, Office of Information and Regulatory Affairs, New Executive Office Building NW., Room 10235, Washington, DC 20503.

FOR FURTHER INFORMATION CONTACT: For copies of this proposal, contact the Automated Systems Management Group, Office of Personnel Management, 1900 E. Street NW., Washington, DC 20415, Attention: Program Management Office (ICR) or via email to Help@USAStaffing.gov. Please include your complete mailing address or email address with your request.

SUPPLEMENTARY INFORMATION: Emergency clearance is requested given the current form expires December 2016 and continuation of operations is necessary.

Approximately 11,400,000 respondents will complete the Occupational Questionnaire. We estimate it takes 40 minutes to complete the OPM 1203-FX. Electronic submissions are processed through secure Government Web sites maintained by OPM, and in cases where respondents are unable to submit via Web site, via a fax server for electronic processing. The total annual estimated burden is 7,600,000 hours.

Comments are particularly invited on:

• Whether this information is necessary for the proper performance of functions on the Office of Personnel Management, and whether it will have practical utility;

• whether our estimate of the public burden of this collection of information is accurate, and based on valid assumptions and methodology; and

• ways in which we can minimize the burden of the collection of information on those who are to respond, through the use of appropriate technological collection techniques or other forms of information technology.

Beth Cobert,
Acting Director, U.S. Office of Personnel Management.

[FR Doc. 2016-28785 Filed 11-29-16; 8:45 am]

BILLING CODE 6325-38-P